DEPARTMENT OF THE TREASURY

Submission for OMB Review; Comment Request

August 19, 2008.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before September 25, 2008 to be assured of consideration.

Alcohol and Tobacco Tax and Trade Bureau (TTB)

OMB Number: 1513-0101.

Type of Review: Extension.

Title: Marks and Notices on Packages of Tobacco Products, TTB REC 5210/13.

Description: TTB requires that tobacco products be identified by statements of information on packages, cases, and containers of tobacco products. TTB uses this information to validate the receipt of excise tax revenue, the determination of tax liability, and the verification of claims.

Respondents: Businesses or other for-profit institutions.

Estimated Total Burden Hours: 1 hour.

OMB Number: 1513-0022.

Type of Review: Revision.

Title: TTB REC 5520/1 Annual Report of Concentrate Manufacturers and Usual and Customary Business Records-Volatile Fruit-Flavor Concentrate.

Form: TTB 5520.2.

Description: Manufacturers of volatile fruit-flavor concentrate must provide reports as necessary to ensure the protection of the revenue. The report and records accounts for all concentrates manufactured, removed, or treated so as to be unfit for beverage use. The information is required to verify that alcohol is not being diverted for beverage use which would jeopardize tax revenues.

Respondents: Business and other for profits.

Estimated Total Burden Hours: 27 hours.

OMB Number: 1513-0094.

Type of Review: Extension.

Title: Federal Firearms and Ammunition Excise Tax Return.

Form: 5300.26.

Description: This information is needed to determine how much tax is owed for firearms and ammunition. TTB uses this information to verify that a taxpayer has correctly determined and paid tax liability on the sale or use of firearms and ammunition. Businesses, including small to large, and individuals may be required to use this form.

Respondents: Business and other for profits.

Estimated Total Burden Hours: 27,020 hours.

OMB Number: 1513-0065.

Type of Review: Revision.

Title: Wholesale Dealers Records of Receipt of Alcoholic Beverages, Disposition of Distilled Spirits, and Monthly Summary Report, TTB REC 5170/2.

Description: An accounting tool, this record is used to show the person from whom a wholesale dealer purchased alcoholic beverages, and the person to whom the dealer sold alcoholic beverages. When required, the monthly report will provide a report of sales activities and on-hand inventory quantities.

Respondents: Business and other for profits.

Estimated Total Burden Hours: 1,200 hours.

OMB Number: 1513-0006.

Type of Review: Extension.

Title: Applications Volatile Fruit-Flavor Concentrate Plants, TTB REC 5520 2.

Forms: TTB 5520.3.

Description: Persons who wish to establish premises to manufacture volatile fruit-flavor concentrates are required to file an application and keep records to support the manufacture of these concentrates. TTB uses the application information to identify persons responsible for such manufacture, since these products contain ethyl alcohol and have potential for use as alcoholic beverages with consequent loss of revenue. The application constitutes registry of a still, a statutory requirement. TTB uses the records to ensure that the concentrates are manufactured properly.

Respondents: Businesses or other for-profit institutions.

Estimated Total Burden Hours: 160 hours.

OMB Number: 1513-0031.

Type of Review: Revision.

Title: Specific Transportation Bond—Distilled Spirits or Wines Withdrawn for Transportation to Manufacturing Bonded Warehouse—Class Six; and Continuing Transportation Bond—Distilled Spirits and Wines.

Forms: TTB 5100.12, TTB 5110.67.

Description: TTB F 5100.12 and TTB F 5110.67 are specific bonds that protect the tax revenue on distilled spirits and wine while in transit from one type of bonded facility to another. They identify the shipment, the parties, the date, and the amount of bond coverage.

Respondents: Business and other for profits.

Estimated Total Burden Hours: 1 hour.

OMB Number: 1513-0055.

Type of Review: Revision.

Title: Offer in Compromise of Liability Incurred Under Federal Alcohol Administration Act, as amended.

Forms: TTB 5640.2.

Description: Persons who have committed violations of the FAA Act may submit an offer in compromise. The offer is a request by the party in violation to compromise penalties for the violations in lieu of civil or criminal action. TTB F 5640.2 identifies the violation(s) to be compromised by the person committing them, amount of offer, plus justification for acceptance.

Respondents: Business and other for profits.

Estimated Total Burden Hours: 24 hours.

OMB Number: 1513-0102.

Type of Review: Revision.

Title: Drawback of Tax on Tobacco Products and Cigarette Papers and Tubes—Export Shipment, TTB REC 5210/2.

Description: Exporters may file claim for drawback of tax on tobacco products and cigarette papers and tubes which have been taxpaid and are to be exported. Appropriate records are needed to ensure drawback of tax is properly documented and justified.

Respondents: Business and other for profits.

Estimated Total Burden Hours: 5 hours.

Clearance Officer: Frank Foote (202) 927-9347, Alcohol and Tobacco Tax and Trade Bureau,Room 200 East,1310 G. Street, NW.,Washington, DC 20005.

OMB Reviewer: Alexander T. Hunt (202) 395-7316, Office of Management and Budget, Room 10235, New Executive Office Building,Washington, DC 20503.

Robert Dahl,
Treasury PRA Clearance Officer.

[FR Doc. E8-19696 Filed 8-25-08; 8:45 am]

BILLING CODE 4810-31-P